ENVIRONMENTAL PROTECTION AGENCY

[FRL-7865-5]

Science Advisory Board Staff Office; Notification of Advisory Meetings of the Science Advisory Board Radiation Advisory Committee

AGENCY: Environmental Protection Agency (EPA).

ACTION: Notice.

SUMMARY: The Science Advisory Board (SAB) Radiation Advisory Committee (RAC) will receive briefings from the Agency and discuss its advisory agenda for FY 2005.

DATES: February 28, 2005. The SAB RAC will meet on February 28, 2005, via teleconference from 10 a.m. to 1 p.m. eastern standard time.

Location: The public teleconference meeting will take place via teleconference only.

FOR FURTHER INFORMATION CONTACT: Any member of the public who wishes to obtain the teleconference call-in number and access codes; would like to submit written or brief oral comments (3 minutes or less); or who wants further information concerning this public meeting should contact Dr. Jack Kooyoomjian, Designated Federal Officer (DFO), EPA SAB, 1200 Pennsylvania Avenue, NW. (MC 1400F), Washington, DC 20460; via telephone/voice mail: (202) 343-9984; fax: (202) 233-0643; or e-mail at: kooyoomjian.jack@epa.gov. General information concerning the SAB can be found on the EPA Web site at: http://www.epa.gov/sab.

SUPPLEMENTARY INFORMATION: Background and Purpose: Pursuant to the Federal Advisory Committee Act, Public Law 92-463, the SAB Staff Office hereby gives notice of a public meeting of the Radiation Advisory Committee (RAC). The EPA Office of Radiation and Indoor Air (ORIA) requested the SAB to provide advice on the National Monitoring System (NMS) upgrade, formerly known as the Environmental Radiation Ambient Monitoring System (ERAMS). The RAC will receive briefings from ORIA about this request and discuss its plan for the coming year.

Availability of Meeting Materials: Copies of the agenda for the SAB meetings described in this notice will be posted on the SAB Web site at: http://www.epa.gov/sab prior to the meeting. Persons who wish to obtain background materials on the current ERAMS network may find them at the following Web site: http://www.epa.gov/narel/erams/index.html. For copies of the EPA/ORIA briefing materials on the NMS, please contact Dr. Mary E. Clark of the U.S. EPA, Office of Radiation and Indoor Air (Mail Code 6601J), by telephone/voice mail at (202)-343-9348, by fax at (202)-343-2395; or via e-mail at clark.marye@epa.gov.

Providing Oral or Written Comments at SAB Meetings: It is the policy of the SAB Staff Office to accept written public comments of any length, and to accommodate oral public comments wherever possible. The SAB Staff Office expects the public statements presented at its meetings will not be repetitive of previously-submitted oral or written statements.

Oral Comments: In general, each individual or group requesting an oral presentation at a conference call meeting will be limited to a total time of three minutes (unless otherwise indicated). Requests to provide oral comments must be in writing (e-mail, fax, or mail) and received by the DFO no later than noon eastern time five business days prior to the meeting in order to reserve time on the meeting agenda. Speakers should bring at least 35 copies of their comments and presentation slides for distribution to the reviewers and public at the meeting.

Written Comments: Although the SAB Staff Office accepts written comments until the date of the meeting (unless otherwise stated), written comments should be received in the SAB Staff Office no later than noon eastern time five business days prior to the meeting so that the comments may be made available to the Panelists for their consideration. Comments should be supplied to the DFO (preferably by e-mail) at the address/contact information noted above in the following formats: one hard copy with original signature, and one electronic copy via e-mail (acceptable file format: Adobe Acrobat PDF, WordPerfect, Word, or Rich Text files (in IBM-PC/Windows 98/2000/XP format)). Those providing written comments and who attend the meeting are also asked to bring 35 copies of their comments for public distribution.

Meeting Access: Individuals requiring special accommodation at this meeting should contact the DFO at the phone number or e-mail address noted above at least five business days prior to the meeting, so that appropriate arrangements can be made.

Dated: January 21, 2005.
Vanessa T. Vu,
Director, EPA Science Advisory Board Staff Office.

[FR Doc. 05-1717 Filed 1-28-05; 8:45 am]

BILLING CODE 6560-50-P